DEPARTMENT OF TRANSPORTATION

Federal Highway Administration

[Docket No. FHWA-2024-0081]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under Supplementary Information. We are required to publish this notice in the Federal Register by the Paperwork Reduction Act of 1995.

DATES: Please submit comments by February 4, 2025.

ADDRESSES: You may submit comments identified by DOT Docket ID Number 0081 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except for Federal holidays.

FOR FURTHER INFORMATION CONTACT: Fawn Thompson, (404)-895-6229, fawn.thompson@dot.gov, Office of Technical Services—Center for Accelerating Innovation, Federal Highway Administration, Department of Transportation, 1200 New Jersey Ave. SE, Washington, DC 20590. Office hours are from 7 a.m. to 4 p.m., Monday through Friday, except for Federal holidays.

SUPPLEMENTARY INFORMATION:

Title: 2023-2026 Accelerated Innovation Deployment (AID) Demonstration Grants

Background: The purpose of this Notice of Funding Opportunity (NOFO) is to invite applications for the FHWA's Accelerated Innovation Deployment (AID) Demonstration grants for fiscal years (FY) 2023-2026. Up to $10 million will be available for FY 2023, with up to $12.5 million for each subsequent fiscal year. Funds made available for FYs 2023-2026 for the AID Demonstration are to be awarded on a competitive basis to fund activities eligible for assistance under title 23, United States Code (U.S.C.) in any phase of a highway transportation project between project planning and project delivery including planning, financing, operation, structures, materials, pavements, environment, and construction that address the Technology and Innovation Deployment Program goals. This notice describes the application requirements, selection and evaluation criteria, applicable program and Federal requirements and deliverables, and available technical assistance during the grant solicitation period.

Respondents: Entities eligible include State Departments of Transportation (DOT), Federal Land Management Agencies, and Tribal governments. State DOT may apply for AID Demonstration grants in partnership with Local Public Agencies (LPA), and the State DOT will be responsible for administering the AID Demonstration grant work by the LPA. Any federally recognized Tribe identified on the list of “Indian Entities Recognized and Eligible to Receive Services from the Bureau of Indian Affairs” (87 FR 4636) is eligible to apply for AID Demonstration grants.

Frequency: The information will be collected annually.

Estimated Average Burden per Response: The following is expected for respondents and recipients:

• Application Sub-Total: 21 hours per respondent

• Program Management Sub-Total: 21 hours per recipient

Estimated Total Annual Burden Hours: It is expected that the respondents and recipients will complete approximately 2,340 burden hours to address the Application and Program Management requirements.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on December 3, 2024.
Jazmyne Lewis,
Information Collection Officer.

[FR Doc. 2024-28568 Filed 12-5-24; 8:45 am]

BILLING CODE 4910-22-P